DEPARTMENT OF COMMERCE

Economic Development Administration

Meeting of the National Advisory Council on Innovation and Entrepreneurship

AGENCY: Economic Development Administration, U.S. Department of Commerce.

ACTION: Notice of an open meeting.

SUMMARY: The National Advisory Council on Innovation and Entrepreneurship will hold a meeting on Tuesday, March 13, 2012. The open meeting will be conducted from 10 a.m.-1 p.m. and will be open to the public. The meeting will take place at Gallier Hall, 545 St. Charles Avenue, New Orleans, LA 70130. The Council was chartered on November 10, 2009 to advise the Secretary of Commerce on matters relating to innovation and entrepreneurship in the United States.

DATES: March 13, 2012.

Time: 10 a.m.-1 p.m. (CST).

ADDRESSES: Gallier Hall, 545 St. Charles Avenue, New Orleans, LA 70130. Please specify any special requests for participation five business days in advance. Last minute requests will be accepted, but may be impossible to complete.

SUPPLEMENTARY INFORMATION: The purpose of this meeting is to discuss the implementation of the components of the University President's letter organized by the National Advisory Council on Innovation and Entrepreneurship, discuss further policy implications of this letter and its efforts, and to hear from entrepreneurs in New Orleans. Specific topics for discussion include student entrepreneurship, high-growth entrepreneurship, technology transfer, and the opportunities and challenges for entrepreneurs in New Orleans, and how the United States government can support them. The final agenda will be posted on the U.S. Department of Commerce Web site at www.commerce.gov. Any member of the public may submit pertinent written comments concerning the Council's affairs at any time before or after the meeting. Comments may be submitted to Nish Acharya at the contact information indicated below. Copies of meeting minutes will be available within 90 days.

FOR FURTHER INFORMATION CONTACT: Nish Acharya, Office of Innovation and Entrepreneurship, Room 7019, 1401 Constitution Avenue NW., Washington DC 20230, telephone 202-482-4068; fax: 202-273-4781. Please reference, “NACIE March 13, 2012” in the subject line of your fax.

Dated: February 24, 2012.
Nishith H. Acharya,
Director, Office of Innovation & Entrepreneurship, U.S. Department of Commerce.

[FR Doc. 2012-4868 Filed 2-28-12; 8:45 am]

BILLING CODE 3510-03-P